DEPARTMENT OF THE INTERIOR

Bureau of Land Management

[NV-060-1990]

Notice of Intent To Prepare a Supplemental Environmental Impact Statement to Analyze the Proposed Modification to the Pipeline Plan of Operations for the Pipeline/South Pipeline Pit Expansion

AGENCY: Bureau of Land Management.

COOPERATING AGENCY: Nevada Division of Wildlife.

ACTION: Notice of intent to prepare a supplemental environmental impact statement to analyze the proposed modification to the Pipeline Plan of Operations for the Pipeline/South Pipeline Pit Expansion, Lander County, Nevada, and notice of scoping period.

SUMMARY: Pursuant to section 102(2)(c) of the National Environmental Policy Act of 1969 (NEPA), 40 Code of Federal Regulations 1500-1508 Council on Environmental Quality Regulations, and 43 Code of Federal Regulations 3809, the Bureau of Land Management's Battle Mountain Field Office will be directing the preparation of a Supplemental Environmental Impact Statement (EIS) to analyze a proposed pit expansion. The EIS will be prepared by a third party contractor directed by the BLM. The project will involve public and private lands in Lander County, Nevada.

DATES: Written comments on the scope of the EIS must be post-marked or otherwise delivered by 4:30 p.m. on January 17, 2002.

ADDRESSES: Scoping comments should be sent to the Bureau of Land Management, Battle Mountain Field Office, Attention: Pam Jarnecke, 50 Bastian Road, Battle Mountain, Nevada 89820. Comments, including names and street addresses of respondents, will be available for public review at the Battle Mountain Field Office located in Battle Mountain, Nevada, during regular business hours, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Pam Jarnecke, Battle Mountain BLM, at (775) 635-4144.

SUPPLEMENTARY INFORMATION: The actions associated with the project would consist of the following:

• Expansion of the South Pipeline pit southwest into the Gap mineralized area.

• Expansion of the South Pipeline ore deposit southeast into the Crossroads mineralized area.

• Deepening of the Pipeline/South Pipeline open pit from the currently approved 4120-foot elevation (above mean sea level—amsl) to at least 3600-foot elevation amsl.

• Increasing the approved height of 250 feet for the Pipeline/South Pipeline waste rock dump to 400 feet.

• Increasing the mining rate from an average 150,000 tons per day (tpd) to an average 250,000 tpd, with a maximum of 400,000 tpd.

• Translocate waste rock as partial fill in the Pipeline/South Pipeline open pit, including portions of the expanded pit.

The life of the project under this modification would increase seven years over the time line outlined in the South Pipeline Final EIS (BLM 2000). No additional surface disturbance is proposed under this modification, and the expansion of the Pipeline/South Pipeline open pit was defined in this EIS as a Reasonably Foreseeable Action.

Gerald M. Smith,
Field Manager, Battle Mountain Field Office.

[FR Doc. 01-31185 Filed 12-17-01; 8:45 am]

BILLING CODE 4310-HC-P